DEPARTMENT OF JUSTICE

Drug Enforcement Administration

John G. Costino, D.O.; Dismissal of Proceeding

On June 1, 2010, the Deputy Assistant Administrator, Office of Diversion Control, issued an Order to Show Cause to John G. Costino, D.O. (Respondent), of North Wildwood, New Jersey. The Show Cause Order proposed the revocation of Respondent's DEA Certificate of Registration, AC5210480, and the denial of pending applications to renew or modify his registration, on the ground that “[a]s a result of actions by the New Jersey State Medical Board, [Respondent is] currently without authority to handle controlled substances in the State of New Jersey, the state in which [he is] registered with DEA.” Show Cause Order at 1. The Show Cause Order also notified Respondent of his right to request a hearing on the allegations or to submit a written statement in lieu of hearing, the procedures for doing either, and the consequence for failing to do either. Id. at 2 (citing 21 CFR 1301.43(a), (c), (d) & (e)).

On June 17, 2010, Respondent filed a letter with the Hearing Clerk in which he noted that he had filed an appeal of some unspecified action and that he was “requesting reinstatement of [his] medical license among other things.” Letter of Respondent to Hearing Clerk (June 14, 2010). Therein, Respondent also filed a request to waive his right to a hearing. Id.

Thereafter, the Government submitted the record to me for Final Agency Action. Based on Respondent's letter to the Hearing Clerk, I find that Respondent has waived his right to a hearing. I further find, however, that Respondent's registration expired on August 31, 2010, and that Respondent has not filed a renewal application.

It is well settled that “[i]f a registrant has not submitted a timely renewal application prior to the expiration date, then the registration expires and there is nothing to revoke.” Ronald J. Riegel, 63 FR 67132, 67133 (1998); see also William W. Nucklos, 73 FR 34330 (2008). Because Respondent's registration has expired and there is no pending application to act upon, I conclude that this case is now moot.

Order

Pursuant to the authority vested in me by 21 U.S.C. 823(f) & 824(a), as well as 28 CFR 0.100(b) and 0.104, I hereby order that the Order to Show Cause issued to John G. Costino, D.O., be, and it hereby is, dismissed.

Dated: January 18, 2011.
Michele M. Leonhart,
Administrator.

[FR Doc. 2011-1692 Filed 1-26-11; 8:45 am]

BILLING CODE 4410-09-P